DEPARTMENT OF THE INTERIOR

Fish and Wildlife Service

Notice of Receipt of Application for a Permit

SUMMARY: On February 12, 2002, Circo Hermanos Suarez, S.A., applied for a permit to re-export polar bears under the Convention on International Trade in Endangered Species of Wild Fauna and Flora (CITES). We are publishing this notice due to the high level of interest expressed by the public and members of Congress.

DATES: We have been and continue to receive information from numerous sources related to the status and condition of the bears, and their possible re-export. Our determination regarding the issuance of this permit will be based on all substantive information available to us. However, we anticipate that the review and processing of this application will require at least 45-60 days. Therefore, we will not be able to make a determination on this application until April 26, 2002, and will consider any additional information received by this date.

ADDRESSES: As with all applications received, documents and other information submitted with this application are available for review, subject to the requirements of the Privacy Act and Freedom of Information Act, by any party who submits a written request for a copy of such documents to: U.S. Fish and Wildlife Service, Division of Management Authority, 4401 North Fairfax Drive, Room 700, Arlington, Virginia 22203; fax 703/358-2281. Please refer to the PRT number when requesting a copy of the documents.

FOR FURTHER INFORMATION CONTACT: Division of Management Authority, telephone 703/358-2104.

SUPPLEMENTARY INFORMATION: Circo Hermanos Suarez, S.A., PRT-053440 requests a CITES certificate for the re-export of 5 male and 2 female polar bears (Ursus maritimus) from Puerto Rico to the Netherlands Antilles.

The U.S. Fish and Wildlife Service has information collection approval from OMB through March 31, 2004, OMB Control Number 1018-0093. Federal Agencies may not conduct or sponsor and a person is not required to respond to a collection of information unless it displays a current valid OMB control number.

Dated: February 26, 2002.
Charlie R. Chandler,
Chief, Branch of Permits, Division of Management Authority.

[FR Doc. 02-7315 Filed 3-26-02; 8:45 am]

BILLING CODE 4310-55-P